DEPARTMENT OF ENERGY

Federal Energy Regulatory Commission

Combined Notice of Filings #1

Take notice that the Commission received the following electric corporate filings:

Docket Numbers: EC15-136-000.

Applicants: BTMU Capital Leasing & Finance, Inc.

Description: Application of BTMU Capital Leasing & Finance, Inc. for authorization under Section 203 of the Federal Power Act and Request For expedited Action.

Filed Date: 5/11/15.

Accession Number: 20150511-5054.

Comments Due: 5 p.m. ET 6/1/15.

Take notice that the Commission received the following electric rate filings:

Docket Numbers: ER10-2074-004; ER10-2097-006.

Applicants: Kansas City Power & Light Company, KCP&L Greater Missouri Operations Company.

Description: Notice of Non-Material Change in Status of Kansas City Power & Light Company, et al.

Filed Date: 5/8/15.

Accession Number: 20150508-5207.

Comments Due: 5 p.m. ET 5/29/15.

Docket Numbers: ER10-2488-010.

Applicants: Oasis Power Partners, LLC.

Description: Notice of Non-Material Change of Status of Oasis Power Partners, LLC.

Filed Date: 5/8/15.

Accession Number: 20150508-5240.

Comments Due: 5 p.m. ET 5/29/15.

Docket Numbers: ER11-47-005; ER12-1540-003; ER12-1541-003; ER12-1542-003; ER12-1544-003; ER10-2981-005; ER14-2475-002; ER14-2476-002; ER14-2477-002; ER11-46-008; ER14-594-005; ER10-2975-008; ER11-41-005; ER12-2343-003; ER13-1896-008.

Applicants: Appalachian Power Company, Indiana Michigan Power Company, Kentucky Power Company, Kingsport Power Company, Wheeling Power Company, AEP Texas Central Company, AEP Texas North Company, Public Service Company of Oklahoma, Southwestern Electric Power Company, Ohio Power Company, AEP Energy Partners, Inc., CSW Energy Services, Inc., AEP Retail Energy Partners LLC, AEP Energy, Inc., AEP Generation Resources Inc.

Description: Notice of Non-Material Change in Status of the AEP MBR Companies.

Filed Date: 5/8/15.

Accession Number: 20150508-5246.

Comments Due: 5 p.m. ET 5/29/15.

Docket Numbers: ER12-2310-004.

Applicants: Zephyr Wind, LLC.

Description: Compliance filing per 35: Compliance to 3 to be effective 5/9/2015.

Filed Date: 5/11/15.

Accession Number: 20150511-5002.

Comments Due: 5 p.m. ET 6/1/15.

Docket Numbers: ER15-1691-000.

Applicants: Duke Energy Progress, Inc.

Description: § 205(d) rate filing per 35.13(a)(2)(iii): Amendment to RS 200 FRPPA NCEMPA to be effective 12/10/2014.

Filed Date: 5/11/15.

Accession Number: 20150511-5050.

Comments Due: 5 p.m. ET 6/1/15.

Take notice that the Commission received the following electric securities filings:

Docket Numbers: ES15-30-000.

Applicants: The United Illuminating Company.

Description: Application requesting authorization to issue short-term debt securities in an amount not to exceed $400 million of The United Illuminating Company.

Filed Date: 5/8/15.

Accession Number: 20150508-5243.

Comments Due: 5 p.m. ET 5/29/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2015.
Nathaniel J. Davis, Sr.,
Deputy Secretary.

[FR Doc. 2015-11766 Filed 5-14-15; 8:45 am]

BILLING CODE 6717-01-P